DEPARTMENT OF TRANSPORTATION

Federal Highway Administration

Cancellation of Environmental Impact Statement; Fort Bend County, TX

AGENCY: Federal Highway Administration (FHWA), TxDOT.

ACTION: Cancellation of SH 122 EIS.

SUMMARY: In Vol. 67, No. 179/Monday, September 16, 2002/Notices, FHWA issued a Notice of Intent to advise the public that an Environmental Impact Statement (EIS) would be prepared for the proposed SH 122 roadway between SH 6 and SH 99 in Fort Bend County, Texas. The project is now cancelled; therefore, no further project activities will occur.

FOR FURTHER INFORMATION CONTACT: Mr. Donald E. Davis, Federal Highway Administration, Texas Division, 300 East 8th Street, Room 826, Austin, Texas 78701, Telephone (512) 536-5960.

Issued on: March 7, 2008.
Donald E. Davis,
District Engineer, FHWA Texas Division.

[FR Doc. E8-4994 Filed 3-13-08; 8:45 am]

BILLING CODE 4910-22-M